DEPARTMENT OF THE TREASURY

Internal Revenue Service

26 CFR Part 20

[TD 9414]

RIN 1545-BE52

Grantor Retained Interest Trusts—Application of Sections 2036 and 2039; Correction

AGENCY: Internal Revenue Service (IRS), Treasury.

ACTION: Correcting amendment.

SUMMARY: This document contains a correction to final regulations (TD 9414) that were published in the Federal Register on Monday, July 14, 2008 (73 FR 40173). The final regulations provide guidance on the portion of property transferred to a trust or otherwise, that is properly includible in a grantor's gross estate under Internal Revenue Code (Code) sections 2036 and 2039 if the grantor has retained the use of the property or the right to an annuity, unitrust, or other payment from such property for life, for any period not ascertainable without reference to the grantor's death, or for a period that does not in fact end before the grantor's death.

DATES: The correction is effective on July 31, 2008 and applicable to the estates of decedents dying after August 16, 1954.

SUPPLEMENTARY INFORMATION:

Background

The final regulations (TD 9414) that is the subject of this correction are under sections 2036 and 2039 of the Code.

List of Subjects for 26 CFR Part 20

Estate taxes, Reporting and recordkeeping requirements.

Correction of Publication

Accordingly, 26 CFR part 20 is corrected by making the following correcting amendment:

PART 20—ESTATE TAX; ESTATES OF DECEDENTS DYING AFTER AUGUST 16, 1954

Paragraph 1. The authority citation for part 20 continues to read in part as follows:

Authority: 26 U.S.C. 7805 * * *

Par. 2. Section 20.2036-1 is amended by adding paragraph (a)(3)(ii) to read as follows:

§ 20.2036-1 Transfers with retained life estate.

(a) * * *

(3) * * *

(ii) The right, either alone or in conjunction with any other person or persons, to designate the person or persons who shall possess or enjoy the transferred property or its income (except that, if the transfer was made before June 7, 1932, the right to designate must be retained by or reserved to the decedent alone).

* * * * *

Cynthia E. Grigsby,
Senior Federal Register Liaison Officer, Publications and Regulations Branch, Legal Processing Division, Associate Chief Counsel (Procedure and Administration).

[FR Doc. E8-17500 Filed 7-30-08; 8:45 am]

BILLING CODE 4830-01-P